DEPARTMENT OF EDUCATION

[CFDA No. 84.326H]

National Early Childhood Technical Assistance Center; Final Extension of Project Period and Waiver

AGENCY: Office of Special Education Programs, Office of Special Education and Rehabilitative Services, Department of Education.

ACTION: Notice of final extension of project period and waiver for the National Early Childhood Technical Assistance Center.

SUMMARY: The Secretary issues this notice to waive the requirements in the Education Department General Administrative Regulations (EDGAR) that generally prohibit project periods exceeding five years and extensions of project periods involving the obligation of additional Federal funds. This extension of project period and waiver enables the currently funded National Early Childhood Technical Assistance Center to receive funding from October 1, 2011 through September 30, 2012.

DATES: The extension of project period and waiver is effective August 12, 2011.

FOR FURTHER INFORMATION CONTACT: Julia Martin Eile, U.S. Department of Education, 400 Maryland Avenue, SW., room 4056, Potomac Center Plaza (PCP), Washington, DC 20202-2550. Telephone: (202) 245-7431.

If you use a telecommunications device for the deaf (TDD), call the Federal Relay Service (FRS), toll-free, at 1-800-877-8339.

SUPPLEMENTARY INFORMATION: On June 7, 2011, the Department published a notice in the Federal Register (76 FR 32967) proposing an extension of project period and a waiver of 34 CFR 75.250 and 75.261(a) and (c) in order to—

(1) Enable the Secretary to provide additional funds to the currently funded National Early Childhood Technical Assistance Center (NECTAC) for an additional 12-month period, from October 1, 2011, through September 30, 2012; and

(2) Request comments on the proposed extension of project period and waiver.

There are no substantive differences between the notice of proposed extension of project period and waiver and this notice of final extension of project period and waiver.

Public Comment

In response to our invitation in the notice of proposed extension of project period and waiver, we did not receive any substantive comments. Generally we do not address comments that do not express views on the substance of the notice of proposed extension of project period and waiver.

Waiver of Delayed Effective Date

The Administrative Procedure Act requires that a substantive rule must be published at least 30 days before its effective date, except as otherwise provided for good cause (5 U.S.C. 553(d)(3)). We received no substantive comments on the notice of proposed extension of project period and waiver, and we have not made any substantive changes to the proposal. The Secretary has therefore determined to waive the delayed effective date to ensure a timely continuation grant to the entity affected.

Background

On April 28, 2006, the Department published a notice in the Federal Register (71 FR 25163) inviting applications for new awards for fiscal year (FY) 2006 for NECTAC. The purpose of the NECTAC, which was funded under the Technical Assistance and Dissemination to Improve Services and Results for Children with Disabilities (TA&D) program, authorized under section 663 of the Individuals with Disabilities Education Act (IDEA), 20 U.S.C. 1463, is to ensure that eligible infants, toddlers, and children with disabilities (ages birth through five years) receive, as appropriate, services under Parts B and C of IDEA that ultimately improve their developmental and early learning outcomes. Another purpose of the NECTAC is to ensure that the families of eligible infants, toddlers, and children receiving services under Part C of IDEA receive services necessary to enhance families' capacity to meet the developmental needs of their infants, toddlers, or children.

Based on the 2006 notice inviting applications, the Department made one award for a period of 60 months to the University of North Carolina at Chapel Hill to carry out the activities of the NECTAC.

Currently, the NECTAC focuses on providing technical assistance to strengthen State and local early childhood systems and improve outcomes for infants, toddlers, and children with disabilities and families of infants, toddlers, and children receiving services under Part C of IDEA.

The NECTAC's current project period is scheduled to end on September 30, 2011. We believe that it is not in the public interest to hold a new competition under this program in 2011 to fund a new NECTAC. An extension of the current grantee's project will align the end of the current NECTAC project period with the expiration of the project period for the Technical Assistance Center on Social-Emotional Intervention for Young Children (CFDA No. 84.326B) and allow for the Department to develop a strategic and better coordinated approach to early childhood special education technical assistance without there being a lapse in the provision of technical assistance services currently provided by the NECTAC. We also have concluded that it is not in the public interest to have a lapse in the provision of the resources currently provided by the NECTAC.

For these reasons, the Secretary waives the requirements in 34 CFR 75.250, which prohibit project periods exceeding five years; waives the requirements in 34 CFR 75.261(a) and (c), which limit the extension of a project period if the extension involves the obligation of additional Federal funds; and issues a continuation award under 34 CFR 75.253 in the amount of $3,000,000 to the University of North Carolina at Chapel Hill (H326H060005) to operate the NECTAC for an additional 12-month period.

Waiving these regulations and issuing this continuation award ensure that technical assistance is available to strengthen State and local early childhood systems and improve outcomes for infants, toddlers, and children with disabilities and families of infants, toddlers, and children receiving services under Part C of IDEA.

With this final extension of project period and waiver, the NECTAC will conduct the following activities during FY 2012:

(a) Develop products and services to respond to State needs prioritized on the basis of results of current needs-analyses and syntheses.

(b) Provide coordinated individualized and multi-State technical assistance services to address high-priority needs.

(c) Support State-specific technical assistance efforts specified by the Department's Office of Special Education Programs.

(d) Coordinate with other relevant national and State-level technical assistance efforts.

(e) Disseminate documents to a wide audience, including State and local directors of special education.

(f) Maintain the NECTAC's Web site.

Regulatory Flexibility Act Certification

The Secretary certifies that this final extension of project period and waiver will not have a significant economic impact on a substantial number of small entities. The only entities that will be affected are the current grantee serving as the NECTAC and any other potential applicants.

Paperwork Reduction Act of 1995

The final extension of project period and the waiver do not contain any information collection requirements.

Intergovernmental Review

This program is subject to the requirements of Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or computer diskette) on request to the contact person listed under FOR FURTHER INFORMATION CONTACT.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: August 9, 2011.
Alexa Posny,
Assistant Secretary for Special Education and Rehabilitative Services.

[FR Doc. 2011-20606 Filed 8-11-11; 8:45 am]

BILLING CODE 4000-01-P